DEPARTMENT OF INTERIOR

National Park Service

Draft Environmental Impact Statement for the General Management Plan for Carl Sandburg Home National Historic Site

AGENCY: National Park Service, Interior.

ACTION: Notice of availability of a draft environmental impact statement for the General Management Plan for Carl Sandburg Home National Historic Site, Flat Rock, North Carolina.

SUMMARY: Pursuant to section 102(2)(c) of the National Environmental Policy Act of 1969 and National Park Service policy in Director's Order Number 2 (Park Planning) and Director's Order Number 12 (Conservation Planning, Environmental Impact Analysis, and Decision-making) the National Park Service announces the availability of a Draft Environmental Impact Statement and General Management Plan (DEIS/GMP) for Carl Sandburg Home National Historic Site, Flat Rock, North Carolina.

The DEIS/GMP analyzes three action alternatives and one no-action alternative for guiding management of the park over the next 20 years. The three action alternatives incorporate various management prescriptions to ensure resource protection and quality visitor experience conditions. The no-action alternative would continue current management practices and policies into the future.

DATES: The DEIS/GMP will be available for public review from October 15, 2002, through December 15, 2002. Public meetings will be held in November 2002. Representatives of the National Park Service will be available at the public meetings to receive comments, concerns, and other input from the public related to the DEIS/GMP. Public notice of the specific dates, times, and locations of the meetings will be provided in a newsletter, announced in local media, and posted on the Internet at http://www.nps.gov/carl/gmp_info.htm.

ADDRESSES: Copies of the DEIS/GMP are available from the Superintendent, Carl Sandburg Home National Historic Site, 1928 Little River Road, Flat Rock, North Carolina, 28731. Public reading copies of the DEIS/GMP will also be available for review at the following locations:

• Office of the Superintendent, Carl Sandburg Home National Historic Site, 1928 Little River Road, Flat Rock, North Carolina, 28731. Telephone: 828-693-4178.

• Division of Planning and Compliance, Southeast Regional Office, National Park Service, Attention: Tim Bemisderfer, 100 Alabama Street, 1924 Building, Atlanta, Georgia 30303. Telephone: 404-562-3124 ext. 693.

• An electronic copy of DEIS/GMP is available for download in .pdf format on the Internet at http://www.nps.gov/carl/gmp_news.htm.

FOR FURTHER INFORMATION CONTACT: Superintendent, Carl Sandburg Home National Historic Site, 1928 Little River Road, Flat Rock, North Carolina 28731. Telephone: 828-693-4178.

SUPPLEMENTARY INFORMATION: The DEIS/GMP analyzes three action alternatives and one no-action alternative for guiding management of the park over the next 20 years. Environmental consequences anticipated from implementing the various alternatives are addressed in the DEIS/GMP. Impact topics include cultural resources, natural resources, interpretation and museum operations, park operations and administration, and quality of life and the socioeconomic environment. The action alternatives are described as follows:

In the Sandburg Center alternative, the park serves as a national and worldwide focal point for learning about Carl Sandburg. Access to Sandburg information, literature, and research would be enhanced through an extensive internet database and traveling exhibits of Sandburg related historical objects. Visitors who come to the site in person would find extraordinary opportunities to learn about the life and works of Carl Sandburg. The alternative provides high quality museum space where visitors can gain additional access to information and objects currently housed in the museum preservation facility. Additional interpretive program areas would be created by rehabilitating the interior of one or more historic structures near the main house or barn, renovating the existing visitor contract station to improve its interpretive and visitor services function, and creating a visitor center outside the current authorized boundary of the park. The Sandburg Center alternative includes a Congressionally legislated boundary expansion of 110 acres for scenic view and boundary protection and up to 5 acres for construction of a visitor center and new parking area.

The Paths of Discovery alternative encourages park managers and local government leaders to collectively identify and address common needs. The concept supplements the park's traditional high quality interpretive program and provides additional community walking opportunity by constructing a new 3/4 mile interpretive trail parallel to Little River Road and the Back Drive. In turn, the park would encourage a community partnership strategy to address common needs like additional parking and multi purpose meeting space. The Paths of Discovery alternative includes a Congressionally legislated boundary expansion of 110 acres for scenic view and boundary protection and up to 5 acres for construction of a visitor center and new parking area.

In the Connemara Lifestyle alternative, visitors would experience the site much as Carl Sandburg knew it. Park management would focus on maintaining the site's historic landscape, structures, and furnishings and providing interpretive programs on site and at local schools. Primary access to the objects and information contained in the museum collection would occur at the amin house, an expanded visitor contact station, and through the internet or other mass media formats. Opportunities for access to objects and information would be greater than existing conditions but less than the Sandburg Center or Paths of Discovery alternatives. The Connemara Lifestyle alternative includes a Congressionally legislated boundary expansion of 25 acres for scenic view and boundary protection and up to 2 acres for construction of a new parking area. The Connemara Lifestyle alternative acknowledge uncertainty about increased federal funding by taking a conservative approach to proposing new infrastructure, additional staff, and increased maintenance responsibility.

In all action alternatives, the park would continue to provide guided tours of the Sandburg residence and maintain the historic landscape at a high level of integrity. Opportunities for walking would be available and closely managed to maintain the historic character of the site. The existing amphitheater would be relocated to a less intrusive location and the trailer restroom would be replaced by an appropriately designed modern facility at the same location. Any additional property interest acquired by the park would be acquired under a willing sell/willing buyer arrangement.

Dated: September 6, 2002.
W. Thomas Brown,
Acting Regional Director, Southeast Region.

[FR Doc. 02-27244 Filed 10-24-02; 8:45 am]

BILLING CODE 4310-70-M